DEPARTMENT OF DEFENSE

Department of the Air Force

[Docket ID: USAF-2012-0033]

Privacy Act of 1974; System of Records

AGENCY: Department of the Air Force, DoD.

ACTION: Notice to alter a System of Records.

SUMMARY: The Department of the Air Force proposes to alter a system of records notice in its existing inventory of records systems subject to the Privacy Act of 1974 (5 U.S.C. 552a), as amended.

DATES: This proposed action will be effective on January 31, 2013 unless comments are received which result in a contrary determination. Comments will be accepted on or before January 30, 2013.

ADDRESSES: You may submit comments, identified by docket number and title, by any of the following methods:

Federal Rulemaking Portal: http://www.regulations.gov.

Follow the instructions for submitting comments.

• Mail: Federal Docket Management System Office, 4800 Mark Center Drive East Tower, 2nd Floor, Suite 02G09, Alexandria, VA 22350-3100

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act of 1974, as amended, were submitted on December 12, 2012 to the House Committee on Oversight and Government Reform, the Senate Committee on Homeland Security and Governmental Affairs, and the Office of Management and Budget (OMB) pursuant to paragraph 4c of Appendix I to OMB Circular No. A-130, “Federal Agency Responsibilities for Maintaining Records about Individuals,” dated February 8, 1996, (February 20, 1996, 61 FR 6427).

Dated: December 13, 2012.
Aaron Siegel,
Alternate OSD Federal Register Liaison Officer, Department of Defense.

F036 AF PC E

System Name:

United States Air Force (USAF) Airman Retraining Program (June 11, 1997, 62 FR 31793)

Changes:

* * * * *

System ID:

Delete entry and replace with “F036 AFPC Y.”

* * * * *

System Location:

Delete entry and replace with “Headquarters, United States Air Force, Air Force Personnel Center (AFPC), 550 C Street West, Randolph Air Force Base, TX 78150-4703, major command headquarters, and consolidated base personnel offices. Official mailing addresses are published as an appendix to the Air Force's compilation of systems of records notices.”

* * * * *

Categories of records in the system:

Delete entry and replace with “Name, grade, rank, Social Security Number (SSN) and/or DoD ID Number, recommendation memorandums, test scores, medical qualification for individual requesting to be retrained into another career field.”

Authority for Maintenance of the System:

Delete entry and replace with “10 U.S.C. 8013, Secretary of the Air Force; 10 U.S.C. Chapter 901, Training Generally; implemented by Air Force Instruction 36-2626, Airman Retraining Program; and E.O. 9397 (SSN), as amended.”

Purpose(s):

Delete entry and replace with “Used by military personnel officials at base, major commands, and Headquarters Air Force Personnel Command to evaluate decisions on retraining applications.”

* * * * *

Storage:

Delete entry and replace with “Electronic storage media.”

Retrievability:

Delete entry and replace with “Name, SSN and/or DoD ID Number.”

Safeguards:

Delete entry and replace with “Encrypted electronic records are accessed by the Retraining program manager and by persons cleared for need-to-know. They are stored in buildings that are locked and have controlled access entry requirements, and are only accessed by authorized personnel with Secure Common Access Card (CAC) and need-to-know.”

Retention and Disposal:

Delete entry and replace with “Electronic records are retained in office until superseded, no longer needed, separation or reassignment of individual on Permanent Change of Assignment (PCA) or Permanent Change of Duty Station (PCS).”

System Manager(s) and address:

Delete entry and replace with “Assistant Deputy Chief of Staff, Air Force Personnel Center, 550 C Street West, Randolph Air Force Base, TX 78150-4703.”

Notification Procedure:

Delete entry and replace with “Individuals seeking to determine whether information about themselves is contained in this system should address written inquiries to or visit the Assistant Deputy Chief of Staff, Air Force Personnel Center, 550 C Street West, Randolph Air Force Base, TX 78150-4703.

For verification purposes, individuals should provide their full name, SSN and/or DoD ID Number, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

Record Access Procedures:

Delete entry and replace with “Individuals seeking access to information about themselves contained in this system should address written inquiries to or visit the Assistant Deputy Chief of Staff, Air Force Personnel Center, 550 C Street West, Randolph Air Force Base, TX 78150-4703.

For verification purposes, individuals should provide their full name, SSN and/or DoD ID Number, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

* * * * *

[FR Doc. 2012-31353 Filed 12-28-12; 8:45 am]

BILLING CODE 5001-06-P